DEPARTMENT OF DEFENSE

Office of the Secretary

Intent To Prepare an Environmental Impact Statement for O'Brien Road Access Modernization (ORAM), Within the Fort Meade Complex, Maryland

AGENCY: National Security Agency, Department of Defense (DoD).

ACTION: Notice of intent; notice of public scoping; request for comments.

SUMMARY: The DoD announces its intent to prepare an Environmental Impact Statement (EIS) to assess the potential effects associated with proposed access and infrastructure upgrades at the National Security Agency's (NSA) campus on Fort George G. Meade, Maryland (hereafter referred to as Fort Meade). The purpose of the proposed project is to increase efficiencies and capacity for required security processing of deliveries and traffic entering the NSA campus. Additionally, major construction projects have generated changes in Fort Meade traffic distribution, resulting in extensive delays for inspection and access. Publication of this notice begins a scoping process that identifies and determines the scope of environmental issues to be addressed in the EIS. This notice requests public participation in the scoping process and provides information on how to participate.

DATES: The public is invited to provide comments on the scope of the EIS during a 45-day public scoping period. Comments will be accepted until August 25, 2022.

In light of changing public health requirements, a narrated presentation will be made available in lieu of an in-person meeting. Information will be made available on the project website at https://www.nab.usace.army.mil/oram. For further information, see “Scoping Process” in the SUPPLEMENTARY INFORMATION section below).

ADDRESSES: Written comments regarding the scope of the EIS and comments on the scoping process may be submitted by any of the following methods:

Mail: ORAM EIS, c/o: HDR 2650, Park Tower Drive, Suite 400, Vienna, VA 22180;

Email: ORAM@hdrinc.com.

FOR FURTHER INFORMATION CONTACT: Mr. Jeffrey Williams, Sr. Environmental Engineer, jdwill2@nsa.gov 301-688-2970.

SUPPLEMENTARY INFORMATION:

Background: NSA is a tenant DoD agency on Fort Meade, occupying approximately 840 acres of the 5,107.7 acres of base property. Renovation and upgrade of inspection and access facilities for NSA is required to meet increased mission and security capacity. The existing Vehicle Control Inspection Facility (VCIF) and Vehicle Control Point 5 (VCP5) represent two significant entry points for access to the NSA campus. Both facilities require replacement due to process inefficiencies and insufficient capacity to meet current and future demand. Original sizing of the VCIF was to provide inspection facilities only for NSA deliveries and traffic. Post 9/11, a decision was made that NSA would inspect both Fort Meade and NSA deliveries. Additionally, major construction activities on Fort Meade have generated increases in traffic access and inspection throughout the installation. These conditions have resulted in extensive delays at the VCIF and traffic back-ups onto Maryland State Route 32. The design of VCP5 on O'Brien Road is also outdated and provides insufficient access capacity between the NSA campus and Fort Meade. Relocation of the Fort Meade Access Control Facility (ACF) on Mapes Road was included to facilitate the design and construction of the roadway system, as well as minimize environmental impacts.

Proposed Action and Alternatives: The proposed action would consist of: construction of a new VCIF with adjacent visitor control center; construction of a new Mail Screening Facility (MSF) adjacent to the VCIF; construction of a new VCP5; reconfiguration of the Mapes Road ACF; roadway improvements to provide enhanced routing and separation of traffic between NSA and Fort Meade; and associated infrastructure including sidewalks, inspection canopies, dog kennels, surface parking areas, stormwater management facilities, utilities, and related infrastructure.

It is anticipated that two build alternatives will be analyzed in detail through the EIS process that will involve distinct configurations of project elements within the same general area on the NSA campus and Fort Meade. The No Action Alternative (not undertaking the proposed improvements) will also be analyzed in detail to provide a baseline for comparison with the action alternatives.

This notice of intent is required by 40 Code of Federal Regulations (CFR) 1501.9 and briefly describes the Proposed Action and possible alternatives and our proposed scoping process. The EIS will comply with the National Environmental Policy Act of 1969 (NEPA) (42 U.S.C. 4321 et seq.), the Council on Environmental Quality regulations in 40 CFR parts 1500 through 1508, and DoD Instruction 4715.9 (Environmental Planning and Analysis).

Significant Issues: Environmental issues to be analyzed in the EIS will include potential effects on air quality, stream and wetland resources, forests, cultural resources, hazardous waste and materials, and transportation. Consultations to be incorporated into the preparation of the Draft EIS will include, but are not necessarily limited to, consultation under Section 7 of the Endangered Species Act and Section 106 of the National Historic Preservation Act.

Scoping Process: Public scoping is an early and open process for identifying and determining the scope of issues to be addressed in the EIS. Scoping begins with this notice and continues through the 45-day public comment period.

As part of the public scoping process, in lieu of a public scoping meeting, a narrated presentation about the project and how to provide scoping comments will be made available on August 3, 2022, for a two-day period. The presentation will be made available on the project website at https://www.nab.usace.army.mil/oram.

Upon completion of the scoping process, DoD will prepare a Draft EIS, and will publish a Federal Register notice announcing its public availability. The Draft EIS is anticipated to be available for public review by mid-2023. If you want the notice to be sent to you, please submit your request in writing (see ADDRESSES section in this notice). There will also be an opportunity to review and comment on the Draft EIS. Additionally, it is anticipated that a public meeting would be held after publication of the Draft EIS to present the Draft EIS and receive public comments regarding the document. NSA will consider all comments received and then prepare a Final EIS. As with the Draft EIS, NSA will announce the availability of the Final EIS and once again provide an opportunity for review and comment. The Final EIS and a Record of Decision on the Proposed Action are expected in late 2023.

Dated: June 30, 2022.
Aaron T. Siegel,
Alternate OSD Federal Register Liaison Officer, Department of Defense.

[FR Doc. 2022-14726 Filed 7-8-22; 8:45 am]

BILLING CODE 5001-06-P